DEPARTMENT OF HEALTH AND HUMAN SERVICES

National Institutes of Health

Proposed Collection; 60-Day Notice Request: Application Process for Clinical Research Training and Medical Education at the Clinical Center and Its Impact on Course and Training Program Enrollment and Effectiveness

Summary: In compliance with the requirement of Section 3506(c)(2)(A) of the Paperwork Reduction Act of 1995, for opportunity for public comment on proposed application information collection, the Clinical Center (CC), the National Institutes of Health (NIH) will publish periodic summaries of proposed projects to be submitted to the Office of Management and Budget (OMB) for review and approval.

Written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) The quality, utility, and clarity of the information to be collected; and (4) Minimize the burden of the collection of information on those who are to respond, including the use of appropriate automated, electronic, mechanical, or other technological collection techniques or other forms of information technology.

To Submit Comments and For Further Information: To obtain a copy of the data collection plans and instruments, submit comments in writing, or request more information on the proposed project, contact: Robert M. Lembo, MD, Deputy Director, Office of Clinical Research Training and Medical Education, NIH Clinical Center, 10 Center Drive, MSC 1158, Bethesda, MD 20892-1352, or call non-toll-free number (301)-594-4193, or Email your request, including your address to: lembor@mail.nih.gov. Formal requests for additional plans and instruments must be requested in writing.

Comment Due Date: Comments regarding this information collection are best assured of having their full effect if received within 60 days of the date of this publication.

Proposed Collection: Application Process for Clinical Research Training and Medical Education at the Clinical Center and its Impact on Course and Training Program Enrollment and Effectiveness, 0925-NEW, Clinical Center, National Institutes of Health (CC), National Institutes of Health (NIH).

Need and Use of Information Collection: The primary objective of the application process is to allow OCRTME to evaluate applicants' qualifications to determine applicants' eligibility for courses and training programs managed by the office. Applicants must provide the required information requested in the respective applications to be considered a candidate for participation. Information submitted by candidates for training programs is reviewed initially by OCRTME administrative staff to establish eligibility for participation. Eligible candidates are then referred to the designated training program director or training program selection committee for review and decisions regarding acceptance for participation. A secondary objective of the application process is to track enrollment in courses and training programs over time.

OMB approval is requested for 3 years. There are capital, operating, and/or maintenance costs of $98,022. The total estimated annualized burden hours are 2,210.

Estimated Annualized Burden Hours
Type of applicants | Estimated number of applicants | Estimated number of applications per applicant | Maximum burden hours per application | Estimated total annual burden hours requested
Doctoral Level | 6,488 | 1 | 20/60 | 2,163
Students | 82 | 1 | 20/60 | 27
Other | 59 | 1 | 20/60 | 20

Dated: September 25, 2013.
Laura Lee,
Project Clearance Liaison, Clinical Center, National Institutes of Health.

[FR Doc. 2013-24074 Filed 10-1-13; 8:45 am]

BILLING CODE 4140-01-P